DEPARTMENT OF TRANSPORTATION

Federal Aviation Administration

[Docket No. FAA-2004-16944]

Operating Limitations at Chicago O'Hare International Airport

ACTION: Notice of order to show cause and request for information.

SUMMARY: The FAA has issued an order to show cause which solicits the views of interested persons on the FAA's tentative determination to extend through October 28, 2006, an August 18, 2004, order limiting the number of scheduled aircraft arrivals at O'Hare International Airport during peak operation hours. The text of the order to show cause is set fourth in this notice.

DATES: Any written information that responds to the FAA's order to show cause must be submitted by March 22, 2006.

ADDRESSES: You may send comments [identified by Docket Number FAA-2004-16944] using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Gerry Shakley, System Operations Services, Air Traffic Organization; Telephone: (202) 267-9424; E-mail: gerry.shakley@faa.gov.

SUPPLEMENTARY INFORMATION:

Order To Show Cause

The Federal Aviation Administration's (FAA's) August 18, 2004, order limiting scheduled operations at O'Hare International Airport expires on April 1, 2006. The FAA has tentatively determined that it will extend the order through October 28, 2006. This order to show cause invites air carriers and other interested persons to submit comments in Docket No. FAA-2004-16944 on this proposal to extend the duration of the August 2004 order.

If the FAA were to allow the August 2004 order to expire as presently scheduled, the FAA anticipates a return of the congestion-related delays that precipitated the voluntary schedule reductions and adjustments reflected in the August 2004 order. The FAA has adopted a rule limiting unscheduled flights at O'Hare,¹ but it has applied no limits on scheduled flights at O'Hare, other than the August 2004 order. In a separate docket, the FAA solicited public comment on a proposed rule that would limit the number of scheduled arrivals at O'Hare.² The comment period for the proposed rule ended on May 24, and the FAA and the Office of the Secretary of Transportation have evaluated the comments filed in that proceeding and expect to issue a final rule shortly. It is not possible, however, to implement a final rule in time for the beginning of the summer scheduling season.³ The FAA expects that the extension of the August 2004 order will permit the order's expiration to coincide with the effective date of the final rule.

¹ 70 FR 39610 (July 8, 2005).

² 70 FR 15520 (Mar. 25, 2005).

³ We note that carriers customarily use 90- to 120-day lead time in establishing their operating schedules.

The FAA's authority to extend the August 2004 order is the same as the authority cited in that order. The FAA proposes to extend the August 2004 order under the agency's broad authority in 49 U.S.C. 40103(b) to regulate the use of the navigable airspace of the United States. This provision authorizes the FAA to develop plans and policy for the use of navigable airspace and, by order or rule, to regulate the use of the airspace as necessary to ensure its efficient use.

Background

On August 18, 2004, the FAA issued an order limiting the number of scheduled arrivals that air carriers conduct at O'Hare during peak hours. The August 2004 order followed a period during which O'Hare operated without any regulatory constraint on the number of aircraft operations, and O'Hare experienced significant congestion-related delay. According to the Bureau of Transportation Statistics, in November 2003, O'Hare ranked last among the nation's thirty-one major airports for on-time arrival performance, with on-time arrivals 57.26% of the time. O'Hare also ranked last in on-time departures in November 2003, yielding on-time departures 66.94% of the time. The data for December 2003 reflected a similar performance by O'Hare—ranking last with 60.06% of arrivals on time and 67.23% of departures on time. Despite the high proportion of delayed flights, when the air carriers published their January and February 2004 schedules in the Official Airline Guide, the schedules revealed that the air carriers intended to add still more flight operations to O'Hare's schedule.

In January 2004, the two air carriers conducting most of the scheduled operations at O'Hare—together accounting for about 88% of O'Hare's scheduled flights—agreed to a temporary 5% reduction of their proposed peak-hour schedules at the airport. When the voluntarily reduced schedules failed to reduce sufficiently O'Hare's congestion-related flight delays, the two air carriers agreed to a further 2.5% reduction of their scheduled peak-hour operations at O'Hare. The FAA captured the voluntary schedule reductions in FAA orders, and the orders were effective through October 30, 2004.

By the summer of 2004, it was apparent that the schedule reductions agreed to in the first half of the year, which were made by only two of the many air carriers conducting scheduled operations at O'Hare, were unlikely to be renewed after the orders expired on October 30, 2004. In the absence of a voluntary constraint, the industry's proposed schedules for November, as reported in the preliminary Official Airline Guide in July 2004, indicated that the number of scheduled arrivals during several hours would approach or exceed O'Hare's highest possible arrival capacity. During one hour, the number of scheduled arrivals would have exceeded by 32% O'Hare's capacity under ideal conditions.

Therefore, the FAA invited all scheduled air carriers to an August 2004 scheduling reduction meeting to discuss overscheduling at O'Hare, voluntary schedule reductions, and retiming flights to less congested periods. The August 2004 meeting and subsequent negotiations led the FAA to issue the August 2004 order, which limited the number of scheduled arrivals conducted by U.S. and Canadian air carriers at O'Hare during peak operating hours. The order also defined opportunities for new entry and for growth by limited incumbent air carriers at O'Hare. The order took effect November 1, 2004, was previously extended on March 21 and October 2, 2005, and in the absence of a further extension, it will expire on April 1, 2006.

The flight limits implemented by the August 2004 order have been effective. Delays have decreased, and customers have seen improved on-time arrival performance as a result of the depeaked flight schedules. For the period from November 2004 through June 2005, the average minutes of arrival delay decreased by approximately 27% when compared to the same period last year. This level of delay reduction is somewhat better than the 20% reduction in delays that the FAA's computer modeling anticipated. We attribute this primarily to weather conditions that were more favorable than average and to certain peak hours in which the arrivals actually scheduled have been below the hourly limit adopted in the August 2004 order.

During the first 12 months that the order was in effect (November 2004 through October 2005), the average minutes of arrival delay at O'Hare have decreased by approximately 24 percent when compared to the same 12-month period the year before. The longer arrival delays lasting more than one hour have decreased by 28 percent. Overall, the on-time arrival performance at O'Hare has increased by almost 7 percentage points. As a result, O'Hare performed near the average for the rest of the National Airspace System (NAS), which is a dramatic improvement over the airport's bottom-tier performance during much of 2004. Performance since November 2005 declined by some measures due to the normal impact of winter weather on O'Hare and the NAS. However, we continue to show overall improvement compared to the same period before the schedule adjustments.

Order To Show Cause

The FAA has issued a notice of proposed rulemaking to address appropriate limitations on scheduled operations at O'Hare. The comment period for the proposed rule closed on May 24, and the FAA and the Office of the Secretary of Transportation are completing the rulemaking process. However, the FAA cannot implement a final rule sufficiently in advance of the August 2004 order's current expiration date.

To prevent a recurrence of overscheduling at O'Hare during the interim between the expiration of the August 2004 order on April 1, 2006, and the expected effective date of the rule, the FAA tentatively intends to extend the August 2004 order. The limits on arrivals and the allocation of arrival authority embodied in the August 2004 order reflect the FAA's agreements with U.S. and Canadian air carriers. As a result, maintaining the order through the summer scheduling season constitutes a reasonable approach to preventing unacceptable congestion and delays at O'Hare. In addition, we find that it is reasonable to match this proposed extension of the August 2004 order with the scheduling cycle for summer 2006. The August 2004 order, as extended, would expire on October 28, 2006.

Independence Air, which was assigned ten arrivals in the August 2004 order, ceased all operations at O'Hare on January 5, 2006. The August 2004 order does not include a mechanism to reallocate such unused capacity; however, it does not appear that the arrival authority assigned to Independence Air is excess capacity. The principal premise for the August 2004 order was the FAA's determination that O'Hare at present can accommodate 88 scheduled arrivals per hour in average meteorological conditions without triggering intolerable congestion-related delays. In negotiating the schedule adjustments among individual air carriers for the August 2004 order, however, several peak afternoon and evening hours received scheduled arrivals that exceed the agency's preferred limit of 88 scheduled arrivals per hour. Accordingly, the unused arrival times assigned to Independence Air under the order would offset the hours that were scheduled above the preferred limit, and we tentatively conclude that it is operationally beneficial not to reallocate the arrival times formerly used by Independence Air at this time.

Accordingly, the FAA directs all interested persons to show cause why the FAA should not make final its tentative findings and tentative decision to extend the August 2004 order through October 28, 2006, by filing their written views in Docket No. FAA-2004-16944 on or before March 22, 2006. The FAA is not soliciting views on the issues separately under consideration in the proposed rulemaking. Therefore, any submissions to the current docket should be limited to the issue of extending the August 2004 order.

Issued in Washington, DC, on March 13, 2006.
Rebecca Byers MacPherson,
Assistant Chief Counsel for Regulation.

[FR Doc. 06-2595 Filed 3-14-06; 11:16 am]

BILLING CODE 4910-13-P